DEPARTMENT OF HEALTH AND HUMAN SERVICES

Agency for Healthcare Research and Quality

AHRQ Workgroups on ICD-10-CM/PCS Conversion of Quality Indicators (QIs)

AGENCY: Agency for Healthcare Research and Quality (AHRQ), HHS.

ACTION: Notice of request for nominations.

SUMMARY: The Agency for Healthcare Research and Quality (AHRQ) is seeking nominations for members of approximately 10 multidisciplinary workgroups, to be convened by AHRQ's contractor, on ICD-10-CM/PCS conversion of the AHRQ Quality Indicators (QIs).

DATES: Please submit nominations on or before June 29, 2012. Self-nominations are welcome. Third-party nominations must indicate that the individual has been contacted and is willing to serve on the workgroup. Selected candidates will be notified no later than July 13, 2012.

ADDRESSES: Nominations can be sent in the form of a letter or email, preferably as an electronic file with an email attachment and should specifically address the submission criteria as noted below. Electronic submissions are strongly encouraged. Responses should be submitted to: ATTN: John Bott, Agency for Healthcare Research and Quality, Center for Delivery, Organization and Markets, 540 Gaither Road, Room 5119, Rockville, MD 20850, Email: john.bott@AHRQ.hhs.gov.

FOR FURTHER INFORMATION CONTACT: John Bott, Agency for Healthcare Research and Quality, Center for Delivery, Organization and Markets, 540 Gaither Road, Room 5119, Rockville, MD 20850, Email: john.bott@AHRQ.hhs.gov; Phone: (301) 427-1317; Fax: (301) 427-1430.

SUPPLEMENTARY INFORMATION: These workgroups are being formed as part of a structured approach for converting the existing QI specifications from ICD-9-CM to ICD-10-CM/PCS, incorporating coding expertise, clinical expertise, and health services research/quality measurement expertise. The workgroups will evaluate the results of automated “code mapping” from ICD-9-CM to ICD-10-CM/PCS, providing input and advice regarding similarities and differences between ICD-9-CM and ICD-10-CM/PCS codes that are mapped to each other. This workgroup process will lead to recommendations regarding how the existing AHRQ QIs should be re-specified using ICD-10-CM/PCS codes, retaining the original clinical intent of each indicator while taking advantage of the greater specificity of ICD-10-CM/PCS to improve the indicator's validity. Workgroup participation will be uncompensated.

For additional information about the AHRQ QIs, please visit the AHRQ Web site at http://www.QUALITYindicators.AHRQ.gov.

Specifically, each Workgroup on ICD-10-CM/PCS Conversion of Quality Indicators will consist of:

• At least three individuals with relevant clinical expertise (e.g., cardiovascular disease, neurologic disease, orthopedic and musculoskeletal disease, obstetrics and gynecologic disease, surgery, critical care and pulmonary disease, diabetes and endocrine disease, infectious disease, neonatology and pediatric disease, miscellaneous) and at least two individuals with relevant coding expertise.

• One or more individuals with field experience using AHRQ QI measures for assessing hospital performance.

• One or more individuals with expertise in validating ICD-9-CM or ICD-10-CM/PCS codes using chart abstraction (to assess criterion validity), or otherwise assessing their accuracy and usefulness in identifying individuals with specific adverse outcomes.

• One or more individuals with experience using data from the AHRQ Healthcare Cost and Utilization Project or similar data for the purpose of calculating AHRQ QIs.

Submission Criteria

To be considered for membership on a QI ICD-10-CM/PCS Conversion Workgroup, please send the following information for each nominee:

1. A brief nomination letter highlighting experience and knowledge relevant to the development, refinement, or testing of quality measures based on ICD9-CM and/or ICD-10-CM/PCS coded data, and demonstrating familiarity with the AHRQ QIs and health care administrative data. (See selection criteria below.) The nominee's clinical or coding profession and specialty, and the spectrum of his or her clinical or coding expertise, should be described. Please include full contact information of nominee: name, title, organization, mailing address, telephone and fax numbers, and email address.

2. Curriculum vita (with citations to any pertinent publications related to quality measure specification, ICD-9-CM, or ICD-10-CM/PCS).

3. Description of any financial interest, recent conduct, or current or planned commercial, non-commercial, institutional, intellectual, public service, or other activities pertinent to the potential scope of the workgroups, which could be perceived as influencing the workgroup's process or recommendations. The objective is not to prevent nominees with potential conflicts of interest from serving on the panels, but to obtain such information so as to best inform the selection of workgroup members, and to help minimize such conflicts.

Nominee Selection Criteria

Nominees should have technical expertise in health care quality measure development, refinement, or application, and familiarity with the ICD-9-CM and ICD-10-CM/PCS code sets (especially insofar as they are used to specify quality measures).

More specifically, each candidate will be evaluated using the following criteria:

• Knowledge of health care quality measurement using administrative data in specific, relevant clinical domains (e.g., cardiovascular disease, neurologic disease, orthopedic and musculoskeletal disease, obstetrics and gynecologic disease, surgery, critical care and pulmonary disease, diabetes and endocrine disease, infectious disease, neonatology and pediatric disease, miscellaneous);

• Peer-reviewed publications relevant to developing, refining, testing, or applying health care quality measures based on ICD-coded administrative data;

• Other experience developing, refining, testing, or applying health care quality measures based on ICD-coded administrative data;

• Expertise in ICD-9-CM and/or ICD-10-CM/PCS coding;

• Expertise in hospital quality improvement, patient safety, and/or clinical documentation improvement;

• Familiarity with the AHRQ Quality Indicators and their application; and,

• Availability to participate in conference calls and provide written comments starting from late July through October 2012.

Time Commitment

In an effort to solicit expert input and recommendations on conversion of the AHRQ QIs from ICD-9-CM to ICD-10-CM/PCS, we are initiating a technical review process that will require participation in approximately three to five conference calls with some pre and post evaluation time (estimated at 13 hours). Results from this process will influence the conversion of the AHRQ QI from ICD-9-CM to ICD-10-CM/PCS. Beginning in late July through October, selected nominees will be asked to participate in the following activities:

Workgroup Activities

1. Review the current ICD-9-CM specifications of AHRQ QIs within the workgroup's clinical domain (e.g., cardiovascular disease, neurologic disease, orthopedic and musculoskeletal disease, obstetrics and gynecologic disease, surgery, critical care and pulmonary disease, diabetes and endocrine disease, infectious disease, neonatology and pediatric disease, miscellaneous), along with background documents justifying or explaining those specifications (about 1.5 hours).

2. Participate in teleconference to explain the workgroup activities and processes, and to discuss current QI specifications and their justification (1.0 hours).

3. Review proposed mapping of ICD-9-CM to ICD-10-CM/PCS codes and identify relevant questions and concerns (about 3 hours).

4. Participate in teleconference to discuss the proposed mappings, including relevant questions and concerns (1.5 hours).

5. Following a structured process (e.g., modified Delphi), provide specific input to support or modify the proposed mappings (about 2.5 hours).

6. Participate in teleconference to discuss areas of disagreement among workgroup members, and to achieve consensus when possible (1.5 hours).

7. Following a structured process (e.g., modified Delphi), provide specific input to support or modify the proposed mappings, incorporating changes accepted in previous steps (about 1.0 hour).

8. Participate in final (optional) teleconference to review final recommendations and discuss contextual issues (1.0 hour).

Please note that should additional conference calls be necessary, workgroup members are expected to make every effort to participate. The workgroups will conduct business by telephone, email, or other electronic means as needed.

Background

The AHRQ Quality Indicators (AHRQ QIs) are a unique set of measures of health care quality that make use of readily available hospital inpatient administrative data. The QIs have been used for various purposes. Some of these include tracking, hospital self-assessment, reporting of hospital-specific quality or pay for performance. The AHRQ QIs are provider- and area-level quality indicators and currently consist of four modules: the Prevention Quality Indicators (PQI), the Inpatient Quality Indicators, the Patient Safety Indicators (PSI), and the Pediatric Quality Indicators (PedQIs). AHRQ is committed to converting the QIs from ICD-9-CM to ICD-10-CM/PCS in an accurate and transparent manner, taking advantage of the additional specificity of ICD-10-CM/PCS to improve the validity and usefulness of the QIs, from October 2014 onward.

Dated: May 24, 2012.
Carolyn M. Clancy,
Director, AHRQ.

[FR Doc. 2012-13306 Filed 6-1-12; 8:45 am]

BILLING CODE 4160-90-M